DEPARTMENT OF AGRICULTURE

Agricultural Marketing Service

[Doc. # TM-04-13]

National Organic Program (NOP); Nominations for Task Force Members

AGENCY: Agricultural Marketing Service, USDA.

ACTION: Notice.

SUMMARY: The National Organic Standards Board (NOSB) at its October 12-14, 2004, meeting recommended the formation of two ad hoc task force groups to develop draft organic standards. One task force will develop proposed production, handling, and labeling standards for food and animal feed products derived from aquatic animals. The second task force will develop proposed organic labeling standards for pet food. This notice calls for nominations for members to these two task force groups.

DATES: Written nominations, with resumes, must be post-marked on or before February 23, 2005.

ADDRESSES: Nominations should be sent to Ms. Katherine E. Benham, Advisory Board Specialist, USDA-AMS-TMP-NOP, 1400 Independence Avenue, SW., Room 4008-S, Ag Stop 0268, Washington, DC 20250-0268.

FOR FURTHER INFORMATION CONTACT: Keith Jones, Director, Program Development, National Organic Program, 1400 Independence Ave., SW., Room 4008-S, Ag Stop 0268, Washington, DC 20250-0268; Telephone: (202) 720-3252; Fax: (202) 205-7808; e-mail: keith.jones@usda.gov.

SUPPLEMENTARY INFORMATION:

Why Are These Task Force Groups Being Formed?

Two areas of agricultural products left unregulated by the current NOP regulations are: (1) production, handling, and labeling standards for food and animal feed products derived from aquatic animals and (2) labeling standards for pet food.

The Organic Foods Production Act of 1990 (OFPA), as amended (7 U.S.C. 6501 et seq.), includes “fish used for food” within the definition of livestock. This language provides the authority for the U.S. Department of Agriculture (USDA) to establish national standards for the production, handling and labeling of these products when they are to be sold, labeled, or represented as organic. The USDA interprets the OFPA language to include both finfish and shellfish.

During April-May 2000, the NOP conducted public meetings in Mobile, Alabama; Anchorage, Alaska; and Providence, Rhode Island. These meetings were designed to solicit public input regarding the potential of certifying as organic aquatic animals harvested from aquaculture and wild or open-sea production. Twenty-nine individuals presented testimony during the three public meetings, including representatives from commercial wild harvest and aquaculture producers, organic certification organizations, State regulatory programs, and consumer and environmental interest groups. In addition, the NOP solicited public comment on this issue in a March 22, 2000, Federal Register notice (65 FR 15579). The USDA received a total of 44 public comments on the questions raised in this notice.

An analysis of the comments at the time showed little consensus on organic certification of products derived from aquatic animals. Commenters both favored and opposed developing production and handling standards for aquatic animals. In order to more fully examine the issues raised by the commenters, the NOSB formed an aquatic animal task force at its June 6-7, 2000, meeting. In October 2001, this task force issued a general recommendation calling for the development of standards for the certification of aquaculture production and a prohibition on the development of standards for the certification of wild-harvested aquatic animals. The full task force report may be obtained at: http://www.ams.usda.gov/nosb/FinalRecommendations/Oct01/AquaticTaskForce.html., or by contacting the NOP at the address shown in this notice.

However, since 2001, the interest in the certification of aquatic animals has grown significantly. Some USDA-accredited organic certification agents have developed private standards to address the market demand for these products. Further, a rider to the Supplemental Appropriations Bill, passed by Congress in April 2003, resolved any previous uncertainty about whether organic standards for wild-harvested aquatic animals could be developed under the authority of the OFPA (7 U.S.C. 6506 (c)). This new section reads:

“(c) WILD SEAFOOD

(1) IN GENERAL—Notwithstanding the requirements of Section 2107(a)(1)(A) requiring products to be produced only on certified organic farms, the Secretary shall allow, through regulations promulgated after public notice and opportunity for public comment, wild seafood to be certified as organic.

(2) CONSULTATION AND ACCOMODATION—In carrying out paragraph (1), the Secretary shall—

(A) consult with—

(i) the secretary of Commerce;

(ii) the National Organic Standards Board established under section 2119;

(iii) producers, processors, and sellers; and

(iv) other interested members of the public; and

(B) to the maximum extent practicable, accommodate the unique characteristics of the industries in the United States that harvest and process wild seafood.”

We envision the formation of this aquatic animal task force as the first step in a deliberative process that may lead to the development of production, handling, and labeling standards for aquatic animals that are to be sold, labeled, or represented as organic.

The NOP final regulations (65 FR 80548, December 21, 2000), do not address the labeling of pet food. In the preamble to the NOP final regulations, we stated that “We have not addressed the labeling of pet food within this final rule because of the extensive consultation that will be required between USDA, the NOSB, and the pet food industry before any standards on this category could be considered.” Since the publication of the final regulation, the interest in the labeling of pet food as organic has grown significantly. Some USDA-accredited organic certification agents have developed private standards to address the market demand for these products. We envision the formation of this pet food task force as the first step in a deliberative process that may lead to the development of labeling standards for pet food that is to be sold, labeled or represented as organic.

What Are the Task Force Groups Objectives and Time Requirements?

The general objective of these task force groups is to develop draft organic standards for: (1) The production, handling and labeling of food and animal feed products derived from aquatic animals and (2) the labeling of pet food as organic. Draft standards developed as a result of the task forces' work will be forwarded to the NOSB for review and consideration as recommendations to the Secretary.

The task force on standards for aquatic animals will be divided into two working groups—one for animals that live and are harvested in the wild or open-sea and another for animals that live and are harvested under aquaculture. These working groups will develop recommendations for consideration by the full task force, which will in turn issue recommendations to the NOSB. The NOSB will review and consider the material developed by the task force and make recommendations to the Secretary. The aquatic animal task force will be chaired by the chairperson of the NOSB Livestock Committee. Each working group will be limited to 12 individuals. To the extent permitted by the pool of nominees, the task force members may include wild or open-sea fishermen, aquaculture producers, handlers and processors of aquatic animals, experts in aquatic animal health and nutrition, marine conservationists, consumer representatives, academics, and accredited organic certification agents.

The task force on standards for the labeling of pet food will focus on the development of standards for product labeling categories and ingredients to be used in pet food that is to be sold, labeled, or represented as organic. In addition to developing recommendations on labeling categories and ingredients, the task force will prepare a list of substances used in the manufacture of pet food. The pet food task force will be chaired by the chairperson of the NOSB Handling Committee. The NOSB will review and consider the material developed by the task force and make recommendations to the Secretary. The task force will be limited to 12 individuals. To the extent permitted by the pool of nominees, the task force members may include representatives of makers of dry, canned, and semi-moist pet foods and treats, experts in animal health and nutrition, veterinarians, ingredient suppliers, feed control officials, academics, and accredited organic certification agents.

We anticipate that members of the two task force groups will be named 60 days after publication of this notice. Each task force will be formally empanelled by the NOSB.

Each task force will be expected to present its completed proposed standards at the October-November 2005, NOSB meeting to be held in Washington, DC.

It is expected that the discussions between the respective task force members will be handled through electronic mail and conference calls. No face-to-face meetings are anticipated.

What Are the Minimum Skills and Experience Requirements To Be Considered for These Task Force Groups?

Candidates for the aquatic animal task force should have 5 years of demonstrable work experience as a wild or open-sea fisherman, an aquaculture producer, a handler or processor of aquatic animals, an aquatic animal health and nutrition specialist, a marine conservationist, a consumer representative, an academic, or an accredited organic certification agent. Candidates for the pet food task force should have 5 years of demonstrable work experience as a handler, processor or formulator of dry, canned, and semi-moist pet foods and treats, an animal health or nutrition specialist, a veterinarian, an ingredient supplier, a feed control official, an academic, or an accredited organic certification agent.

Candidates with demonstrable knowledge of organic production and handling methods and certification procedures are preferred. Successful candidates should be aware of the issues raised and considered by previous Boards and any subsequent recommendations. NOSB actions and recommendations on these and other issues may be found at: http://www.ams.usda.gov/nosb/index.htm.

Candidates should submit their qualifications in a resume or curriculum vita format. In addition to this information, candidates should submit, if applicable, a “declaration of interests” list. This list should state all direct commercial, financial, consulting, family, or personal relationships that currently exist or have existed with business entities that may be regulated through any future rulemaking on these issues. The declaration of interests list should cover activities undertaken by the candidate during the past 12 months.

Authority: 7 U.S.C. 6501 et seq.

Dated: January 13, 2005.
A.J. Yates,
Administrator, Agricultural Marketing Service.

[FR Doc. 05-1180 Filed 1-21-05; 8:45 am]

BILLING CODE 3410-02-P